DEPARTMENT OF HEALTH AND HUMAN SERVICES

Findings of Research Misconduct

AGENCY: Office of the Secretary, HHS.

ACTION: Notice.

SUMMARY: Findings of research misconduct have been made on the part of Maria Cristina Miron Elqutub, Research Interviewer, University of Texas MD Anderson Cancer Center (MDACC). Dr. Elqutub engaged in research misconduct in research supported by National Institute of Dental and Craniofacial Research (NIDCR), National Institutes of Health (NIH), grant U01 DE019765-01. The administrative actions, including three (3) years of supervision, were implemented beginning on April 26, 2018, and are detailed below.

FOR FURTHER INFORMATION CONTACT: Wanda K. Jones, Dr.P.H., Interim Director, Office of Research Integrity, 1101 Wootton Parkway, Suite 750, Rockville, MD 20852, (240) 453-8200.

SUPPLEMENTARY INFORMATION: Notice is hereby given that the Office of Research Integrity (ORI) has taken final action in the following case:

Maria Cristina Miron Elqutub, University of Texas MD Anderson Cancer Center: Based on Respondent's admission, the report of an inquiry conducted by MDACC, and analysis conducted by ORI in its oversight review, ORI found that Ms. Maria Cristina Miron Elqutub, Research Interviewer, MDACC, engaged in research misconduct in research supported by NIDCR, NIH, grant U01 DE019765-01.

ORI found that Respondent engaged in research misconduct by intentionally and knowingly falsifying and/or fabricating data that were included in the following two (2) published papers and two (2) grant progress reports submitted to NIDCR, NIH:

• PLoS One 10(6):e0128753, 2015 Jun 2 (hereafter referred to as “PLoS One 2015”).

• Cancer 121(14):2367-74, 2015 Jul 15 (hereafter referred to as “Cancer 2015”) Retracted in: Cancer 124(4):869, 2018 Feb 15.

• 5 U01 DE019765-04.

• 5 U01 DE019765-05.

Specifically, ORI found that Respondent engaged in research misconduct by recording dates and providing her own blood samples to cause these samples to be falsely labeled as samples from ninety-eight (98) study subjects in a cancer genetics study involving human blood samples. This resulted in the reporting of false data in Tables 1, 2, 3, and 4 in PLoS One 2015, in Figure 1 and Tables 1, 2, 3, and 4 in Cancer 2015, and in the Results sections of Project 2 progress reports for NIDCR, NIH, grants 5 U01 DE019765-04 and 5 U01 DE019765-05.

Ms. Elqutub entered into a Voluntary Settlement Agreement and voluntarily agreed, beginning on April 26, 2018:

(1) To have her research supervised for a period of three (3) years; Respondent agreed to ensure that prior to the submission of an application for U.S. Public Health Service (PHS) support for a research project on which Respondent's participation is proposed and prior to Respondent's participation in any capacity on PHS-supported research, the institution employing her must submit a plan for supervision of Respondent's duties to ORI for approval; the supervision plan must be designed to ensure the scientific integrity of Respondent's research contribution; Respondent agreed that she will not participate in any PHS-supported research until a supervision plan is submitted to and approved by ORI; Respondent agreed to maintain responsibility for compliance with the agreed upon supervision plan;

(2) that for a period of three (3) years, any institution employing her must submit, in conjunction with each application for PHS funds, or report, manuscript, or abstract involving PHS-supported research in which Respondent is involved, a certification to ORI that the data provided by Respondent are based on actual experiments or are otherwise legitimately derived and that the data, procedures, and methodology are accurately reported in the application, report, manuscript, or abstract;

(3) if no supervisory plan is provided to ORI, to provide certification to ORI on an annual basis for a period of three (3) years that she has not engaged in, applied for, or had her name included on any application, proposal, or other request for PHS funds without prior notification to ORI;

(4) to exclude herself voluntarily from serving in any advisory capacity to PHS including, but not limited to, service on any PHS advisory committee, board, and/or peer review committee, or as a consultant for a period of three (3) years; and

(5) to the correction or retraction of PLoS One 10(6):e0128753, 2015 Jun 2.

Wanda K. Jones,
Interim Director, Office of Research Integrity.

[FR Doc. 2018-10592 Filed 5-17-18; 8:45 am]

BILLING CODE 4150-31-P